DEPARTMENT OF STATE

[Public Notice 11671]

Notice of Department of State Sanctions Actions Pursuant to the Protecting Europe's Energy Security Act

SUMMARY: The Secretary of State has imposed sanctions on four entities and 13 vessels pursuant to the Protecting Europe's Energy Security Act (PEESA).

DATES: The Secretary of State's determination regarding the four entities, and imposition of sanctions on the entities and vessels identified in the SUPPLEMENTARY INFORMATION section were applicable on May 21, 2021. See SUPPLEMENTARY INFORMATION section.

FOR FURTHER INFORMATION CONTACT: Anthony Musa, mussad@state.gov, Phone: (202) 647-1925.

SUPPLEMENTARY INFORMATION: Pursuant to Section 7503(a)(1)(A) of PEESA, as amended, the Secretary of State, in consultation with the Secretary of the Treasury, shall submit every 90 days a report to the appropriate congressional committees that identifies vessels that engaged in pipe-laying or pipe-laying activities at depths of 100 feet or more below sea level for the construction of the Nord Stream 2 pipeline project, the Turkstream pipeline project, or any project that is a successor to either such project. Pursuant to Section 7503(a)(1)(B) of PEESA, as amended, the Secretary of State, in consultation with the Secretary of the Treasury, shall also include in the report foreign persons that the Secretary of State, in consultation with the Secretary of the Treasury, determines have knowingly sold, leased, or provided, or facilitated selling, leasing, or providing, those vessels for the construction of such a project. Pursuant to Section 7503(c) of PEESA, as delegated, the Secretary of the Treasury, in consultation with the Secretary of State, shall exercise all powers granted to the President by the International Emergency Economic Powers Act to the extent necessary to block and prohibit all transactions in all property and interests in property of any person identified under subsection (a)(1)(B) of PEESA if such property and interests in property are in the United States, come within the United States, or are or come within the possession or control of a United States person. Pursuant to E.O. 13049, with respect to any foreign person identified by the Secretary of State, in consultation with the Secretary of the Treasury, in a report to the Congress pursuant to section 7503(a)(1)(B) of PEESA, all property and interests in property of such person that are in the United States, that hereafter come within the United States, or that are or hereafter come within the possession or control of any United States person are blocked and may not be transferred, paid, exported, withdrawn, or otherwise dealt in.

The Secretary of State has determined, pursuant to Section 7503(a)(1)(B)(i) of PEESA, as amended, that Federal State Budgetary Institution Marine Rescue Service (MRS), Limited Liability Company Mortransservice (Mortransservice), Samara Heat and Energy Property Fund (STIF), and LLC Koksokhimtrans (Koksokhimtrans) have knowingly, on or after January 1, 2021, sold, leased, or provided, or facilitated selling, leasing, or providing, vessels that engaged in pipe-laying or pipe-laying activities at depths of 100 feet or more below sea level for the construction of the Nord Stream 2 pipeline project. On May 21, 2021, pursuant to section 7503(c) of PEESA, as amended, these entities were added to the Non-SDN Menu-Based Sanctions List (NS-MBS List). On August 20, 2021, pursuant to Section E.O. 13049 and section 7503(c) of PEESA, as amended, these entities were added to the Specially Designated Nationals and Blocked Persons List (SDN List). All property and interests in property of these entities subject to U.S. jurisdiction are blocked.

The following vessels subject to U.S. jurisdiction were added to the NS-MBS list on May 21, 2021. On August 20, 2021, these vessels were added to the Specially Designated Nationals and Blocked Persons List:

Akademik Cherskiy (IMO 8770261) (Linked To: Samara HEat and Eenrgy Property Fund)

Baltiyskiy Issledovatel (IMO 9572020) (Linked To: Federal State Budgetary Institution Marine Rescue Service)

Umka (IMO 9171620) (Linked To: Federal State Budgetary Institution Marine Rescue Service)

Artemis Offshore (IMO 9747194) (Linked To: Federal State Budgetary Institution Marine Rescue Service)

Finval (IMO 9272412) (Linked To: Federal State Budgetary Institution Marine Rescue Service)

Narval (IMO 9171876) (Linked To: Federal State Budgetary Institution Marine Rescue Service)

Sivuch (IMO 9157820) (Linked To: Federal State Budgetary Institution Marine Rescue Service)

Kapitan Beklemishev (IMO 8724080) (Linked To: Federal State Budgetary Institution Marine Rescue Service)

Spasatel Karev (IMO 9497531) (Linked To: Federal State Budgetary Institution Marine Rescue Service)

Bakhtemir (IMO 9797577) (Linked To: Federal State Budgetary Institution Marine Rescue Service)

Murman (IMO 9682423) (Linked To: Federal State Budgetary Institution Marine Rescue Service)

Vladislav Strizhov (IMO 9310018) (Linked To: LLC Koksokhimtrans)

Yury Topchev (IMO 9338230) (Linked To: LLC Koksokhimtrans)

Whitney Baird,
Principal Assistant Secretary of State, Bureau of Economic and Business Affairs, Department of State.

[FR Doc. 2022-11180 Filed 5-24-22; 8:45 am]

BILLING CODE 4710-AE-P